DEPARTMENT OF HOMELAND SECURITY

Coast Guard

33 CFR Part 165

[Docket No. USCG-2025-0855]

Safety Zones; Chicago Harbor, Navy Pier Southeast, Chicago, IL

AGENCY: Coast Guard, DHS.

ACTION: Notification of enforcement of regulation.

SUMMARY: The Coast Guard will enforce a safety zone for a series of barge-based fireworks displays on September 20, 2025, October 30, 2025, and December 31, 2025, to provide for the safety of life on navigable waterways during the displays. Our regulation for marine events within the Great Lakes Coast Guard District identified the safety zone for this event in Chicago, IL. During the enforcement period, entry into, transiting, or anchoring within the safety zone is prohibited unless authorized by the Captain of the Port (COTP) Lake Michigan or a designated on-scene representative.

DATES: The regulations in 33 CFR 165.931 will be enforced from 8:45 p.m. until 9:45 p.m. on September 20, 2025 and October 30, 2025, and from 11:45 p.m. on December 31, 2025 until 12:30 a.m. on January 1, 2026.

FOR FURTHER INFORMATION CONTACT: If you have questions about this notification of enforcement, call or email Lieutenant Kyle Goetz, Marine Safety Unit Chicago, U.S. Coast Guard; 630-986-2155, D09-SMB-MSUChicago-WWM@uscg.mil.

SUPPLEMENTARY INFORMATION: The Coast Guard will enforce a safety zone regulation in 33 CFR 165.931 for the Navy Pier Winter Fireworks from 8:45 p.m. until 9:45 p.m. on September 20, 2025 and October 30, 2025, and from 11:45 p.m. on December 31, 2025 until 12:30 a.m. on January 1, 2026. The regulation in 33 CFR 165.931(a) specifies the location of the safety zone for this event.

During the enforcement period vessels must obtain permission from the COTP Lake Michigan or his or her designated representative to enter, move within, or exit a safety zone. Vessels and persons granted permission to enter the safety zone must obey all lawful orders or directions of the COTP Lake Michigan or his or her designated representative. Upon being hailed by the U.S. Coast Guard by siren, radio, flashing light or other means, the operator of a vessel must proceed as directed.

In addition to this notification of enforcement in the Federal Register, the Coast Guard will provide the maritime community with notification of this enforcement period via Broadcast Notice to Mariners. The COTP Lake Michigan may be reached by contacting the Coast Guard Sector Lake Michigan Command Center at (833) 900-2247. An on-scene designated representative may be reached via VHF-FM Channel 16.

Dated: September 18, 2025.
Nathan R. Downend,
Commander, U.S. Coast Guard, Acting Captain of the Port, Lake Michigan.

[FR Doc. 2025-18403 Filed 9-22-25; 8:45 am]

BILLING CODE 9110-04-P